DEPARTMENT OF THE INTERIOR

National Park Service

[NPS-WASO-NAGPRA-NPS0037178; PPWOCRADN0-PCU00RP14.R50000]

Notice of Inventory Completion: The Filson Historical Society, Louisville, KY

AGENCY: National Park Service, Interior.

ACTION: Notice.

SUMMARY: In accordance with the Native American Graves Protection and Repatriation Act (NAGPRA), the Filson Historical Society has completed an inventory of human remains and has determined that there is no cultural affiliation between the human remains and any Indian Tribe. The human remains were removed from an unknown location.

DATES: Disposition of the human remains in this notice may occur on or after February 2, 2024.

ADDRESSES: Kelly Hyberger, The Filson Historical Society, 1310 South 3rd Street, Louisville, KY 40208, telephone (502) 635-5083, email khyberger@filsonhistorical.org.

SUPPLEMENTARY INFORMATION: This notice is published as part of the National Park Service's administrative responsibilities under NAGPRA. The determinations in this notice are the sole responsibility of the Filson Historical Society. The National Park Service is not responsible for the determinations in this notice. Additional information on the determinations in this notice, including the results of consultation, can be found in the inventory or related records held by the Filson Historical Society.

Description

Human remains representing, at minimum, seven individuals were removed from an unknown location. During a collection inventory, these ancestors were located in Filson collections storage and lack any documentation as to their origin or how they came to be in the possession of the Filson. Based on Filson Historical Society collecting practice, it is reasonable to assume that these individuals were most likely collected within the state of Kentucky. No associated funerary objects are present.

Human remains representing, at minimum, one individual were removed from an unknown location. These human remains were donated to the Filson by the estate of Reuben T. Durrett in 1913 and lack any documentation as to their origin or how they came to be in the possession of Durrett. Based on the collecting practices of Durrett and the Filson Historical Society, it is reasonable to assume that this individual was most likely collected within the state of Kentucky. No associated funerary objects are present.

Aboriginal Land

The human remains in this notice were removed from known geographic locations. These locations are the aboriginal lands of one or more Indian Tribes. The following information was used to identify the aboriginal land: a treaty.

Determinations

Pursuant to NAGPRA and its implementing regulations, and after consultation with the appropriate Indian Tribes, the Filson Historical Society has determined that:

• The human remains described in this notice represent the physical remains of eight individuals of Native American ancestry.

• No relationship of shared group identity can be reasonably traced between the human remains and associated funerary objects and any Indian Tribe.

• The human remains described in this notice were removed from the aboriginal land of the Absentee Shawnee Tribe of Indians of Oklahoma; Cherokee Nation; Eastern Band of Cherokee Indians; Eastern Shawnee Tribe of Oklahoma; Shawnee Tribe; The Chickasaw Nation; and the United Keetoowah Band of Cherokee Indians in Oklahoma.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after February 2, 2024. If competing requests for disposition are received, the Filson Historical Society must determine the most appropriate requestor prior to disposition. Requests for joint disposition of the human remains are considered a single request and not competing requests. The Filson Historical Society is responsible for sending a copy of this notice to the Indian Tribes identified in this notice.

Authority: Native American Graves Protection and Repatriation Act, 25 U.S.C. 3003, and the implementing regulations, 43 CFR 10.9 and 10.11.

Dated: December 20, 2023.
Melanie O'Brien,
Manager, National NAGPRA Program.

[FR Doc. 2023-28930 Filed 1-2-24; 8:45 am]

BILLING CODE 4312-52-P